DEPARTMENT OF TRANSPORTATION

Federal Railroad Administration

[Docket Number FRA-2015-0012]

Petition for Waiver of Compliance

In accordance with Part 211 of Title 49 Code of Federal Regulations (CFR), this document provides the public notice that by a document dated June 18, 2014, the Alaska Railroad (ARR) has petitioned the Federal Railroad Administration (FRA) for a waiver of compliance from certain provisions of the Federal railroad safety regulations contained at 49 CFR part 236, Rules, Standards, and Instructions Governing the Installation, Inspection, Maintenance, and Repair of Signal and Train Control Systems, Devices, and Appliances. FRA assigned the petition Docket Number FRA-2015-0012.

This request is for relief from the requirements of 49 CFR 236.51, Track Circuit Requirements. ARR is seeking to discontinue the existing electronic track circuit through the Whittier Tunnel and replace it with a vital axle counter.

The location of the proposed track circuit replacement is from Whittier, Milepost (MP) F2.5 to Bear Valley, MP F5.2, on the Kenai Subdivision, Whittier Division, at Whittier, AK. The Whittier Division is a single track line with a traffic control system (TCS) with a dedicated TCS block used to protect Whittier Tunnel.

The tunnel is 2.6 miles long and is a mixed use facility allocating exclusive train and automobile occupancy at any given time.

The track circuit installed within the tunnel experiences false occupancy failures that contribute to a backup of train and auto travel through the tunnel. The embedded track and the consistently wet road combined with fouling soil and a failing pump system create an extremely low ballast resistance which inhibits the safe, reliable operation of the track circuit.

Axle counters function by detecting the presence and traveling direction of wheels at entrance and exit points of defined blocks of track. The wheels are counted into and out of the block. If the same amount of axles are detected departing the block as were detected entering it, the block is considered vacant. Axle counters provide no broken rail detection, as required in 49 CFR 236.51.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 13, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on February 19, 2015.
Ron Hynes,
Director, Office of Technical Oversight.

[FR Doc. 2015-03787 Filed 2-24-15; 8:45 am]

BILLING CODE 4910-06-P